POSTAL REGULATORY COMMISSION

39 CFR Part 3017

[Docket No. RM2020-3; Order No. 5353]

Procedures Related to Commission Views

AGENCY: Postal Regulatory Commission.

ACTION: Proposed rule.

SUMMARY: The Commission proposes revisions to its rules related to the Commission's process for developing views submitted to the Secretary of State on certain international mail matters. The Commission invites public comment on the propose rules.

DATES: Comments are due: January 22, 2020.

ADDRESSES: For additional information, Order No. 5353 can be accessed electronically through the Commission's website at https://www.prc.gov. Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Relevant Statutory Requirements

II. Background

III. Basis and Purpose of Proposed Rules

IV. Proposed Rules

I. Relevant Statutory Requirements

Section 407(c)(1) of title 39 of the United States Code requires that the Secretary of State, before concluding a treaty, convention, or amendment establishing a market dominant rate or classification, request the Commission's views on the consistency of such rate or classification with the modern rate-setting criteria of 39 U.S.C. 3622. Commission views entail the review and analysis of numerous proposals from the UPU or its member countries, which are typically posted on the UPU website pursuant to a series of deadlines that begin about 6 months before a Congress convenes.

II. Background

In Docket No. RM2015-14, the Commission adopted rules formalizing its procedures related to Commission views submitted pursuant to 39 U.S.C. 407(c)(1).¹ The adopted rules reflected the Commission's commitment to both transparency and improved public accessibility by establishing dockets that informed the public about the availably of relevant proposals, Commission views, and other related documents, and by allowing all documents to be incorporated into one comprehensive record.

¹ See generally, Docket No. RM2015-14, Order Adopting Final Rules on Procedures Related to Commission Views, December 20, 2015 (Order No. 2960).

III. Basis and Purpose of Proposed Rules

In the years since the procedures related Commission views were established, the Commission has participated in both traditional UPU Congresses as well as two extraordinary Congresses. In light of that experience, the Commission is proposing minor improvements to enhance transparency and accountability within the Commission views process as well as to improve the accessibility of relevant proposals, Commission views, and related documents. The proposed rules make clarifying changes that are intended to better reflect the Commission's procedures related to the posting of relevant proposals and Commission views.

IV. Proposed Rules

List of Subjects for 39 CFR Part 3017

Administrative practice and procedure, Postal Service, Treaties.

For the reasons stated in the preamble, the Commission proposes to amend chapter III of title 39 of the Code of Federal Regulations as follows:

1. Revise part 3017 to read as follows:

PART 3017—PROCEDURES RELATED TO COMMISSION VIEWS

Sec.
3017.1 Definitions in this part.
3017.2 Purpose.
3017.3 Establishment and scope of docket.
3017.4 Comment deadline(s).
3017.5 Issuance of Commission views.

Authority: 39 U.S.C. 407; 503.

§ 3017.1 Definitions in this part.

(a) Commission views refers to the opinion the Commission provides to the Secretary of State pursuant to 39 U.S.C. 407(c)(1) on the consistency of a relevant proposal with modern rate regulation.

(b) Modern rate regulation refers to the standards and criteria the Commission has established pursuant to 39 U.S.C. 3622.

(c) Relevant proposal means a proposed change to a treaty, convention, or amendment that establishes a market dominant rate or classification.

§ 3017.2 Purpose.

The rules in this part are intended to facilitate public participation in, and promote the transparency of, the development of Commission views.

§ 3017.3 Establishment and scope of docket.

(a) On or about 150 days before a Universal Postal Union Congress convenes or such advance time as the Commission determines for any other 39 U.S.C. 407(c)(1) matter, the Commission shall establish a docket in order to solicit public comments as part of the development of Commission views.

(b) The Commission shall post relevant proposals in the applicable docket established pursuant to paragraph (a) of this section and may also include other materials related to the development of Commission views, such as other documents or related actions.

(c) Public comments should focus on the specific relevant proposals posted by the Commission and the general principles that should guide the development of Commission views as well as any other materials posted in the applicable docket pursuant to paragraph (b) of this section.

(d) The Commission shall arrange for publication in the Federal Register of the notice establishing each docket authorized under this part.

§ 3017.4 Comment deadline(s).

(a) The Commission shall establish a deadline for comments upon establishment of the docket that is consistent with timely submission of Commission views to the Secretary of State. The Commission may establish other deadlines for comments as appropriate.

(b) The Commission may suspend or forego solicitation of comments if it determines that such solicitation is not consistent with timely submission of Commission views to the Secretary of State.

§ 3017.5 Commission views.

(a) The Commission will review timely filed comments responding to a Commission solicitation pursuant to § 3017.3(a) prior to submitting its views to the Secretary of State.

(b) After Commission views are developed, the Commission shall post Commission views in the applicable docket established pursuant to § 3017.3(a) and submit Commission views to the Secretary of State pursuant to 39 U.S.C. 407(c)(1).

By the Commission.
Ruth Ann Abrams,
Acting Secretary.

[FR Doc. 2019-27604 Filed 12-20-19; 8:45 am]

BILLING CODE 7710-FW-P